FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 15, 2008.

A. Federal Reserve Bank of Cleveland (Nadine Wallman, Vice President) 1455 East Sixth Street, Cleveland, Ohio 44101-2566:

1. The Reed Family Control Group, consisting of Theodore T. Reed, III; Kathy M. Reed; Robert D. Reed, all of Pomeroy, Ohio; Bruce J. Reed; Rita J. Reed; Tyler C. Reed; Justin Reed; Jordan Reed, all of Paris, Tennessee; Kristopher M. Jenkins, Goodlettsville, Tennessee; Paul M. Reed; Laurie F. Reed; Katie E. Reed; and Ben Reed, all of Middleport, Ohio, to acquire voting shares of Farmers Bancshares, Inc., and thereby indirectly acquire voting shares of The Farmers Bank and Savings Company, both of Pomeroy, Ohio.

Board of Governors of the Federal Reserve System, June 25, 2008.
Robert deV. Frierson,
Deputy Secretary of the Board.

[FR Doc. E8-14711 Filed 6-27-08; 8:45 am]

BILLING CODE 6210-01-S